DEPARTMENT OF COMMERCE

National Oceanic and Atmospheric Administration

RIN: 0648-XY85

Western Pacific Fishery Management Council; Public Meetings

AGENCY: National Marine Fisheries Service (NMFS), National Oceanic and Atmospheric Administration (NOAA), Commerce.

ACTION: Notice of public meetings and hearings.

SUMMARY: The Western Pacific Fishery Management Council (Council) will hold a meeting of its Non-Commercial Fisheries Advisory Committee which may make recommendations on fishery management issues in the Western Pacific Region.

DATES: The Non-Commercial Fisheries Advisory Committee meeting will be held on September 23, 2010. For specific times and agendas, see SUPPLEMENTARY INFORMATION.

ADDRESSES: The Non-Commercial Fisheries Advisory Committee will meet at the Council Office, 1164 Bishop St. Suite 1400, Honolulu, HI, 96813, telephone: (808) 522-8220; and by teleconference (1-888) 482-3560, Access Code: 5228220.

FOR FURTHER INFORMATION CONTACT: Kitty M. Simonds, Executive Director; telephone: (808) 522-8220.

SUPPLEMENTARY INFORMATION: In addition to the agenda items listed here, the Non-Commercial Fisheries Advisory Committee may receive reports and make recommendations on emerging fishery issues in the Western Pacific Region. A public comment period will be provided in the agenda. The order in which agenda items are addressed may change. The meetings will run as late as necessary to complete scheduled business.

Schedule and Agenda for Non-Commercial Fisheries Advisory Committee Meeting:

2 p.m. - 4 p.m. Thursday, September 23, 2010 (Hawaii Time)

1. Introductions

2. Update on Council Recreational Fisheries Activities

3. Marine Recreational Information Program Update

4. Issues with the National Saltwater Angler Registry-Exemptions for Hawaii Charter and Non-Commercial Bottomfish Fisheries

5. Data Collection Options

A. Main Hawaiian Islands Non-commercial Bottomfish Fishery

B. Other Recreational Fisheries in the Western Pacific

6. Public Comments

7. Discussion and Recommendations

8. Other Business

Although non-emergency issues not contained in this agenda may come before this group for discussion, those issues may not be the subject of formal action during this meeting. Action will be restricted to those issues specifically listed in this notice and any issues arising after publication of this notice that require emergency action under section 305(c) of the Magnuson-Stevens Fishery Conservation and Management Act, provided the public has been notified of the Council's intent to take final action to address the emergency.

Special Accommodations

These meetings are physically accessible to people with disabilities. Requests for sign language interpretation or other auxiliary aids should be directed to Kitty M. Simonds, (808) 522-8220 (voice) or (808) 522-8226 (fax), at least 5 days prior to the meeting date.

Authority: 16 U.S.C. 1801 et seq.

Dated: September 3, 2010.
Tracey L. Thompson,
Acting Director, Office of Sustainable Fisheries, National Marine Fisheries Service.

[FR Doc. 2010-22491 Filed 9-8-10; 8:45 am]

BILLING CODE 3510-22-S